PRESIDIO TRUST

Presidio Theatre (Building 99), The Presidio of San Francisco, California, Notice of Termination of Environmental Impact Statement Process

AGENCY: The Presidio Trust.

ACTION: Notice of termination of Environmental Impact Statement (EIS) process for the rehabilitation and expansion of the Presidio Theatre (Building 99) within The Presidio of San Francisco, San Francisco, California (Presidio).

RATIONALE: The Presidio Trust (Trust) is terminating the EIS process for the Presidio Theatre in order to complete an update of the 1994 General Management Plan Amendment (GMPA) for Area B of the Presidio and associated EIS as noticed on June 30, 2000 (65 FR 40707-40708) and amended on October 11, 2000 (65 FR 60477-60478). It is expected that this plan update, known as the Presidio Trust Implementation Plan (PTIP) will provide a comprehensive planning framework within which future projects for the Presidio would proceed. Following the completion and adoption of the PTIP and associated EIS and if appropriate within the adopted comprehensive planning framework, the Trust expects to re-propose and reinitiate a project related to the Presidio Theatre, and will inform the public of its intent at that later date. As a result of this notice of termination, the Presidio Theatre project is no longer being treated as an assumption common to all alternatives (i.e., as a “given”) in the PTIP NEPA process.

Background

On April 14, 2000, the Trust announced in the Federal Register (65 FR 20218) its intention to prepare an Environmental Assessment (EA) for rehabilitating the existing 15,140-square-foot Presidio Theatre and adding up to 45,000 square feet of new construction for theater uses, a restaurant, retail museum and library store (project). On May 10, 2000, the Trust held a public scoping workshop to solicit public comment regarding the range of alternatives and the specific impacts to be evaluated in the EA. Following the workshop, the Trust determined based upon public comment that an EIS rather than an EA, as previously noticed, would better serve the agency's compliance with the NEPA's requirements. Therefore, on June 9, 2000, pursuant to 40 CFR 1508.22, the Trust published a notice of intent to prepare an EIS (65 FR 36746) and to extend the public scoping period to provide additional time for the public to make views known on the project. In response to public input at the May 10, 2000 scoping workshop, the Trust held a second public scoping workshop on June 19, 2000, at which time the public was able to tour Building 99 and neighboring Building 100 and to comment on revised project alternatives. Shortly after the end of the public comment period on July 24, 2000, the Trust had received 11 comment letters on NEPA issues and concerns regarding the project from seven agencies, two commenting organizations (one organization submitted two letters), and one individual. An additional 15 organizations and individuals also submitted letters expressing either their support or opposition to the project.

Termination of the Presidio Theatre project EIS at this time is with the mutual agreement of both the Trust and San Francisco Film Centre (project proponent). Independent of the Presidio Theatre EIS process, the Trust initiated the review and update of the GMPA. The PTIP and associated EIS will provide a comprehensive planning framework for Area B of the Presidio. Therefore, the Trust and the Presidio Theatre project proponent have determined to terminate the Presidio Theatre EIS process until completion of the PTIP and PTIP EIS process. A complete administrative record, including all public and agency comments received and all work completed or underway on the Presidio Theatre project, will be maintained by the Trust pending reinitiation, if appropriate, of a Presidio Theatre project following adoption of a governing comprehensive plan for Area B of the Presidio.

FOR FURTHER INFORMATION CONTACT: John Pelka, NEPA Compliance Coordinator, The Presidio Trust, 34 Graham Street, P.O. Box 29052, San Francisco, CA 94129-0052. Telephone: 415-561-5300.

Dated: October 12, 2000.
Karen A. Cook,
General Counsel.

[FR Doc. 00-26706 Filed 10-17-00; 8:45 am]

BILLING CODE 4310-4R-P